ENVIRONMENTAL PROTECTION AGENCY

40 CFR PART 52

[EPA-R05-OAR-2005-OH-0002; FRL-9914-93-Region-5]

Approval and Promulgation of Air Quality Implementation Plans; Ohio; Particulate Matter

AGENCY: Environmental Protection Agency.

ACTION: Proposed rule; reopening of the comment period.

SUMMARY: The Environmental Protection Agency (EPA) is reopening the comment period for a proposed Clean Air Act rule published June 26, 2014. EPA solicited comment on whether events subsequent to a prior comment period should alter EPA's proposed disapproval of a June 4, 2003, Ohio submission with respect to SIP opacity limitations. In response to requests from the Ohio Environmental Protection Agency (Ohio EPA) and from the Ohio Utility Group, EPA is reopening the comment period for 30 days.

DATES: Comments must be received on or before September 8, 2014.

ADDRESSES: Submit your comments, identified by Docket ID No. EPA-R05-OAR-2005-OH-0002, by one of the following methods:

1. www.regulations.gov: Follow the on-line instructions for submitting comments.

2. Email: aburano.douglas@epa.gov.

3. Fax: (312) 692-2551.

4. Mail or Delivery: Douglas Aburano, Chief, Attainment Planning and Maintenance Section, Air Programs Branch (AR-18J), U.S. Environmental Protection Agency, 77 West Jackson Boulevard, Chicago, Illinois 60604. Deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2005-OH-0002. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone John Summerhays, Environmental Scientist, at (312) 886-6067, before visiting the Region 5 office.

FOR FURTHER INFORMATION CONTACT: John Summerhays, Environmental Scientist, Attainment Planning and Maintenance Section, Air Programs Branch (AR-18J), Environmental Protection Agency, Region 5, 77 West Jackson Boulevard, Chicago, Illinois 60604, (312) 886-6067, summerhays.john@epa.gov.

SUPPLEMENTARY INFORMATION: Throughout this document whenever “we,” “us,” or “our” is used, we mean the EPA.

On June 27, 2005, EPA proposed to disapprove provisions relating to opacity limitations contained in an Ohio submittal dated June 4, 2003. EPA is evaluating the public comments received in response to the proposed disapproval. Given the passage of time, on June 26, 2014 (79 FR 36277), EPA solicited supplemental comment specifically with respect to whether events subsequent to the prior comment period should alter EPA's proposed disapproval of Ohio's submission dated June 4, 2003, with respect to SIP opacity limitations. EPA did not solicit comments on Ohio's submission or EPA's proposed action of June 27, 2005, on that submission, except to the extent that events subsequent to the original comment period are relevant to EPA's evaluation of the submission and EPA's proposed action. This was not a reopening of the original comment period, but the opening of a supplemental comment period. In the supplemental proposal, we requested comment by July 28, 2014. We received a request from the Ohio EPA, on July 7, 2014, to extend the comment period an additional 90 days. We also received a similar request from the Ohio Utility Group on July 17, 2014. EPA has considered these requests and has decided to reopen the comment period for an additional 30 days. EPA considers a comment period extended by more than 30 days (including time between July 28, 2014 and today) to be more than sufficient to research and analyze any events subsequent to the original comment period which might be relevant to this supplemental comment period. Neither Ohio EPA nor the Ohio Utility Group identified any particularly time-consuming issues relevant to the supplemental comment period, nor is EPA aware of any. The comment period now closes on September 8, 2014.

Dated: July 29, 2014.
Susan Hedman,
Regional Administrator, Region 5.

[FR Doc. 2014-18833 Filed 8-7-14; 8:45 am]

BILLING CODE 6560-50-P